DEPARTMENT OF AGRICULTURE

Forest Service

Eastern Arizona Counties Resource Advisory Committee

AGENCY: Forest Service, USDA.

ACTION: Notice of meeting.

SUMMARY: The Eastern Arizona Counties Resource Advisory Committee will meet in Pinetop, Arizona. The purpose of the meeting is to review and recommend funding of project proposals in accordance with Public Law 110-343 (the Secure Rural Schools and Community Self-Determination Act).

DATES: The meeting will be held January 7, 2010 starting at 10 a.m. Should this meeting be postponed due to inclement weather, the alternate meeting date is December 12, 2010.

ADDRESSES: The meeting will be held in the conference room of the Arizona Game and Fish Department Regional Office, 2878 East White Mountain Boulevard, Pinetop, Arizona 85935. Send written comments to Julia Faith Rivera, Coordinator, Eastern Arizona Counties Resource Advisory Committee, c/o Forest Service, USDA, P.O. Box 640, Springerville, Arizona 85938 or electronically to jfrivera@fs.fed.us.

FOR FURTHER INFORMATION CONTACT: Julia Faith Rivera, Apache-Sitgreaves National Forests, (928) 333-4301.

SUPPLEMENTARY INFORMATION: The meeting is open to the public and opportunity for public input will be provided. Committee discussion is limited to Forest Service staff and Committee members. However, persons who wish to bring Public Law 110-343 related matters to the attention of the Committee may file written statements with the Committee staff before or after the meeting.

Dated: December 3, 2009.
Chris Knopp,
Forest Supervisor, Apache-Sitgreaves National Forests.

[FR Doc. E9-29301 Filed 12-8-09; 8:45 am]

BILLING CODE 3410-11-M